DEPARTMENT OF HOMELAND SECURITY

Federal Emergency Management Agency

44 CFR Part 67

[Docket ID FEMA-2011-0002; Internal Agency Docket No. FEMA-B-1218]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 20, 2011.

ADDRESSES: The corresponding preliminary Flood Insurance Rate Map (FIRM) for the proposed BFEs for each community is available for inspection at the community's map repository. The respective addresses are listed in the table below.

You may submit comments, identified by Docket No. FEMA-B-1218, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Washington County, Alabama
Alabama | Unincorporated Areas of Washington County | Tombigbee River | Approximately 1,056 feet downstream of the railroad | None | +35
|  |  | Approximately 2.1 miles upstream of the railroad | None | +36
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Washington County
Maps are available for inspection at 45 Court Street, Chatom, AL 36518.
City of DeCordova, Texas
Texas | City of DeCordova | Brazos River | Approximately 100 feet downstream of the Lusk Branch confluence | None | +695
|  |  | Approximately 1.1 miles upstream of the Lusk Branch confluence | None | +695
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of DeCordova
Maps are available for inspection at 5301 Country Club Drive, Granbury, TX 76049.

Flooding source(s) | Location of referenced elevation** | * Elevation in feet (NGVD) + Elevation in feet (NAVD) # Depth in feet above ground ‸ Elevation in feet (LTD): Effective | * Elevation in feet (NGVD) + Elevation in feet (NAVD) # Depth in feet above ground ‸ Elevation in feet (LTD): Modified | Communities affected
Hawaii County, Hawaii
Kamuela Stream | At the Lower Lanimaumau Stream confluence | ‸2701 | ‸2703 | Hawaii County.
| Approximately 0.4 mile upstream of Kinohou Street | None | ‸2770
Lower Lanimaumau Stream | Approximately 1.9 miles downstream of the Kamuela Stream confluence | None | ‸2619 | Hawaii County.
| Approximately 790 feet upstream of Mamalahoa Highway | ‸2861 | ‸2863
Pacific Ocean | Easternmost corner of the Island of Hawaii (in a clockwise direction); Lowest elevation located at approximately 1.2 miles southwest of the intersection of Queen Kaahumanu Highway and Pu'U Pohaku Road | None | ‸4 | Hawaii County.
| Northeast corner of the Island of Hawaii (in a clockwise direction); Highest elevation located at approximately 1.8 miles southeast of the intersection of Hawaii Belt Mamalahoa Highway and Ohai Road | None | ‸57
Palai Stream | At the upstream side of Kinoole Street | None | ‸197 | Hawaii County.
| At the upstream side of Keone Street | None | ‸417
Palai Stream A | At the Palai Stream confluence | None | ‸388 | Hawaii County.
| Approximately 105 feet upstream of Haihai Street | None | ‸500
Shallow Flooding | Approximately 2.8 miles northeast of the intersection of Ka'Ulu Street and 'Ahinahina Place | None | #2 | Hawaii County.
Shallow Flooding | Approximately 1,025 feet west of the intersection of Waikoloa Beach Drive and Naupaka Kai Place | None | #2 | Hawaii County.
Shallow Flooding | Approximately 1.6 miles northwest of the intersection of Queen Kaahumanu Highway and Otec Road | None | #2 | Hawaii County.
Shallow Flooding | Approximately 1.4 miles northwest of the intersection of Pao'O Street and A'U Lepe Street | None | #2 | Hawaii County.
Shallow Flooding | Approximately 1.7 miles northwest of the intersection of Pao'O Street and A'U Lepe Street | None | #1 | Hawaii County.
Shallow Flooding | Approximately 1.9 miles northwest of the intersection of Pao'O Street and A'U Lepe Street | None | #1 | Hawaii County.
Shallow Flooding | Approximately 2.5 miles northwest of the intersection of Pao'O Street and A'U Lepe Street | None | #1 | Hawaii County.
Shallow Flooding | Approximately 2.5 miles southwest of the intersection of Prince Kuhio Boulevard and Lanikai Drive | None | #2 | Hawaii County.
Shallow Flooding | Approximately 0.4 mile southwest of the intersection of Aoao Avenue and Akahi Avenue | None | #2 | Hawaii County.
Shallow Flooding | At the intersection of Kai Avenue and Elima Avenue | None | #1 | Hawaii County.
Shallow Flooding | Approximately 1.9 miles southwest of the intersection of Hawaii Belt Mamalahoa Highway and Kaohe Road | None | #2 | Hawaii County/
Shallow Flooding | Approximately 3.5 miles northeast of the intersection of Ka'Ulu Street and 'Ahinahina Place | None | #1 | Hawaii County.
Shallow Flooding | Approximately 1,625 feet northwest of the intersection of South Kaniku Drive and Konane Street | None | #2 | Hawaii County.
Shallow Flooding | Approximately 3.1 miles northwest of the intersection of Pao'O Street and A'U Lepe Street | None | #1 | Hawaii County.
Shallow Flooding | Approximately 2.0 miles southwest of the intersection of Hawaii Belt Mamalahoa Highway and Ke Ala O Keawe Road | ‸10 | #2 | Hawaii County.
Shallow Flooding | Approximately 370 feet southwest of the intersection of Nohoana Place and Nohoana Street | None | #3 | Hawaii County.
Shallow Flooding | Approximately 500 feet southeast of the intersection of Mamalahoa Highway and Waikelehua Place | None | #1 | Hawaii County.
Shallow Flooding | Approximately 150 feet south of the intersection of West Kawailani Street and Launa Street | None | #1 | Hawaii County.
Shallow Flooding | Approximately 3.6 miles southwest of the intersection of Queen Kaahumanu Highway and Pu'U Pohaku Road | None | #1 | Hawaii County.
Shallow Flooding | Approximately 1,260 feet south of the intersection of Mamalahoa Highway and Cheesebro Lane | None | #1 | Hawaii County.
Shallow Flooding | Approximately 2.2 miles southwest of the intersection of Palena'Aina Place and Nana Uka Place | None | #2 | Hawaii County.
Shallow Flooding | Approximately 1.3 miles southwest of the intersection of Queen Kaahumanu Highway and Pu`U Pohaku Road | None | #2 | Hawaii County.
Shallow Flooding | Approximately 3.5 miles southwest of the intersection of Queen Kaahumanu Highway and Pu`U Pohaku Road | None | #1 | Hawaii County.
Shallow Flooding | Approximately 715 feet southwest of the intersection of Mamalahoa Highway and Kipahele Street | None | #1 | Hawaii County.
Shallow Flooding | Approximately 990 feet northwest of the intersection of Kahilu Road and Mana Road | None | #2 | Hawaii County.
Shallow Flooding | Approximately 8.3 miles southwest of the intersection of Chain of Craters Road and Hilina Pali Road | None | #1 | Hawaii County.
Shallow Flooding | Approximately 1,730 feet northwest of the intersection of South Kaniku Drive and Mauna Lani Point Drive | None | #2 | Hawaii County.
Shallow Flooding | Approximately 300 feet northwest of the intersection of Ainaola Drive and Ainalako Road | None | #1 | Hawaii County.
Shallow Flooding | Approximately 730 feet southwest of the intersection of Haihai Street and Ho'Omalu Street | None | #2 | Hawaii County.
Shallow Flooding | Approximately 250 feet southwest of the intersection of Haihai Street and Kaiao Street | None | #3 | Hawaii County.
Shallow Flooding | Approximately 470 feet southwest of the intersection of Keone Street and Palakiko Street | None | #2 | Hawaii County.
Shallow Flooding | Approximately 1.4 miles northeast of the intersection of Paku'I Street and Nehe Street | None | #2 | Hawaii County.
Shallow Flooding | Approximately 0.5 mile west of the intersection of Kakapa Place and Lae Kikaua Mauka Place | None | #1 | Hawaii County.
Unnamed Stream No. 1 | Approximately 1,050 feet downstream of `Ainahua Alanui Road | None | ‸2800 | Hawaii County.
| Approximately 260 feet upstream of Mamalahoa Highway | None | ‸2913
Unnamed Stream No. 3 | At the Unnamed Stream No. 1 confluence | None | ‸2836 | Hawaii County.
| Approximately 0.5 mile upstream of Mamalahoa Highway | None | ‸2954
Upper Lanimaumau Stream | At the Unnamed Stream No. 1 confluence | None | ‸2839 | Hawaii County.
| Approximately 1.0 mile upstream of Mamalahoa Highway | ‸3212 | ‸3248
Waiakea Stream (upstream) | Approximately 475 feet upstream of Kawailani Street | ‸471 | ‸472 | Hawaii County.
| Approximately 1,620 feet upstream of Kupulau Road | ‸628 | ‸629
Waiakea Stream/Waiakea Flood Control Channel (downstream) | Approximately 460 feet upstream of Mohouli Street | ‸53 | ‸54 | Hawaii County.
| Approximately 380 feet downstream of Komohana Street | ‸304 | ‸306
* National Geodetic Vertical Datum.
+ North American Vertical Datum.
# Depth in feet above ground.
‸ Elevation in feet (LTD).
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Hawaii County
Maps are available for inspection at the Hawaii County Department of Public Works, 101 Pauahi Street, Suite 7, Hilo, HI 96720.
Cole County, Missouri, and Incorporated Areas
Boggs Creek | At the upstream side of Missouri Pacific Railroad | +555 | +558 | City of Jefferson City, Unincorporated Areas of Cole County.
| Approximately 475 feet upstream of U.S. Route 50 | None | +633
Boggs Creek Tributary 1 | At the Boggs Creek confluence | +555 | +559 | City of Jefferson City.
| Approximately 1,150 feet upstream of McCarty Street | None | +573
Dickerson Creek | Approximately 1,600 feet downstream of Henwick Lane | None | +600 | City of St. Martins, Unincorporated Areas of Cole County.
| Approximately 1,400 feet upstream of the U.S. Route 50 West exit ramp | +723 | +725
Dickerson Creek Tributary 1 | At the Dickerson Creek confluence | +647 | +648 | City of St. Martins, Unincorporated Areas of Cole County.
| Approximately 0.47 mile upstream of U.S. Route 50B West | None | +669
Dickerson Creek Tributary 2 | At the confluence with Dickerson Creek | +700 | +697 | City of Jefferson City, Unincorporated Areas of Cole County.
| Approximately 170 feet upstream of Turnberry Drive | None | +738
East Branch Wears Creek | At the Wears Creek confluence | +561 | +557 | City of Jefferson City.
| Approximately 80 feet upstream of Mesa Avenue | None | +606
Frog Hollow Tributary | At the Wears Creek confluence | +615 | +614 | City of Jefferson City.
| Approximately 115 feet upstream of Sardonyx Drive | +644 | +640
Grays Creek | Approximately 0.75 mile upstream of the Missouri River confluence | +561 | +560 | City of Jefferson City, Unincorporated Areas of Cole County.
| Approximately 285 feet downstream of Missouri Pacific Railroad | None | +567
Grays Creek Tributary 4 | At Scott Station Lane | None | +580 | City of Jefferson City, Unincorporated Areas of Cole County.
| Approximately 950 feet upstream of Catalina Drive | None | +685
Grays Creek Tributary 5 | At the Grays Creek confluence | None | +561 | Unincorporated Areas of Cole County.
| Approximately 0.57 mile upstream of Schumate Chapel Road | None | +578
Grays Creek Tributary 6 | At the Grays Creek confluence | +562 | +561 | City of Jefferson City.
| Approximately 800 feet downstream of Belair Drive | +565 | +564
Meadows Creek (backwater effects from Missouri River) | From the Missouri River confluence to approximately 1,200 feet upstream of State Route 179 | +566 | +568 | Unincorporated Areas of Cole County.
Meadows Creek Tributary 2 (backwater effects from Missouri River) | From the Meadows Creek confluence to approximately 650 feet upstream of State Route 179 | +566 | +568 | Unincorporated Areas of Cole County.
Missouri River | At the Osage County boundary | +548 | +551 | City of Jefferson City, Unincorporated Areas of Cole County.
| At the Moniteau County boundary | +573 | +574
Moniteau Creek Tributary 1 (backwater effects from Missouri River) | From the Moniteau Creek confluence to approximately 0.63 mile upstream of State Route 179 | +572 | +573 | Unincorporated Areas of Cole County.
Moniteau Creek Tributary 2 (backwater effects from Missouri River) | From the Moniteau Creek confluence to approximately 0.58 mile upstream of State Route 179 | +568 | +570 | Unincorporated Areas of Cole County.
Moreau River (backwater effects from Missouri River) | From the Missouri River confluence to approximately 750 feet downstream of Missouri Pacific Railroad | +552 | +553 | City of Jefferson City.
Moreau River Tributary 6 | At the upstream side of Green Meadow Drive | +568 | +571 | City of Jefferson City.
| Approximately 600 feet downstream of Tanner Bridge Road | None | +611
Mud Creek West (backwater effects from Missouri River) | From the Missouri River confluence to approximately 0.61 mile upstream of the Missouri River confluence | +568 | +569 | Unincorporated Areas of Cole County.
North Branch Wears Creek | At the Wears Creek confluence | +561 | +557 | City of Jefferson City.
| Approximately 650 feet upstream of Jaycee Drive | None | +622
Osage River (backwater effects from Missouri River) | At the Osage County boundary | +548 | +551 | City of Taos, Unincorporated Areas of Cole County.
| Approximately 9.3 miles upstream of U.S. Route 50 | +550 | +551
Osage River Tributary 47 (backwater effects from Missouri River) | From the Osage River confluence to approximately 1,600 feet upstream of Big Meadows Road | +548 | +551 | Unincorporated Areas of Cole County.
Rising Creek | At the Missouri River confluence | +550 | +552 | City of Jefferson City, City of Taos, Unincorporated Areas of Cole County.
| Approximately 2,000 feet upstream of the U.S. Route 50 East exit ramp | None | +561
Rising Creek Tributary 4 | At the Rising Creek confluence | +551 | +552 | City of Jefferson City.
| Approximately 250 feet downstream of Stertzer Road | +551 | +557
Rock Creek North (backwater effects from Missouri River) | From the Missouri River confluence to approximately 0.70 mile upstream of State Route 179 | +567 | +569 | Unincorporated Areas of Cole County.
Sanford Creek (backwater effects from Missouri River) | From the Osage River confluence to approximately 1,200 feet upstream of U.S. Route 50 East | +548 | +551 | Unincorporated Areas of Cole County.
Wears Creek | At the Missouri River confluence | +556 | +557 | City of Jefferson City.
| Approximately 0.44 mile upstream of Edgewood Drive | None | +683
Workman Creek (backwater effects from Missouri River) | From the Missouri River confluence to approximately 0.47 mile upstream of State Route 179 | +564 | +566 | Unincorporated Areas of Cole County.
* National Geodetic Vertical Datum.
+ North American Vertical Datum.
# Depth in feet above ground.
‸ Elevation in feet (LTD).
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Jefferson City
Maps are available for inspection at City Hall, 320 East McCarty Street, Jefferson City, MO 65101.
City of St. Martins
Maps are available for inspection at City Hall, 6909 A Business 50 West, Jefferson City, MO 65109.
City of Taos
Maps are available for inspection at City Hall, 4909 Countryside Park, Jefferson City, MO 65101.
Unincorporated Areas of Cole County
Maps are available for inspection at the Cole County Courthouse, 301 East High Street, Jefferson City, MO 65101.

(Catalog of Federal Domestic Assistance No. 97.022, “Flood Insurance.”)

Dated: September 9, 2011.
Sandra K. Knight,
Deputy Associate Administrator for Mitigation, Department of Homeland Security, Federal Emergency Management Agency.

[FR Doc. 2011-24287 Filed 9-20-11; 8:45 am]

BILLING CODE 9110-12-P